Proclamation 8823 of May 18, 2012

Armed Forces Day, 2012

By the President of the United States of America

A Proclamation

With every assignment and in every theater, America’s men and women in uniform perform their duties with the utmost dignity, honor, and professionalism. Through their dauntless courage and dedication, they live up to our Nation’s highest ideals in even the most perilous circumstances. On Armed Forces Day, we pay tribute to the unparalleled service of our Armed Forces and recall the extraordinary feats they accomplish in defense of our Nation.

As individuals, our service members set extraordinary examples of character for those whose freedom they protect. Together, they comprise the greatest force for freedom and security the world has ever known. From their earliest training to the thick of battle, they look to those with whom they stand shoulder-to-shoulder, knowing they rise and fall as one team. United in their love of country, they teach us the true meaning of words like duty, honor, and strength.

Not just leaders and troops, patriots and heroes, the members of our Armed Forces are also parents, spouses, partners, sons, and daughters. Their families are just as vital to their success as their brothers and sisters in arms, and our debt of gratitude extends to them as well. As we celebrate the Soldiers, Sailors, Airmen, Marines, and Coast Guardsmen who make our way of life possible, we also pay our deepest respect to their families, our missing, our wounded, and our fallen. Inspired by their service and humbled by their sacrifice, let us recommit to providing all those who have served our Nation the support they deserve.

NOW, THEREFORE, I, BARACK OBAMA, President of the United States of America, and Commander in Chief of the Armed Forces of the United States, continuing the precedent of my predecessors in office, do hereby proclaim the third Saturday of each May as Armed Forces Day.

I direct the Secretary of Defense on behalf of the Army, Navy, Air Force, and Marine Corps, and the Secretary of Homeland Security on behalf of the Coast Guard, to plan for appropriate observances each year, with the Secretary of Defense responsible for encouraging the participation and cooperation of civil authorities and private citizens.

I invite the Governors of the States, the Commonwealth of Puerto Rico, and other areas subject to the jurisdiction of the United States, to provide for the observance of Armed Forces Day within their jurisdiction each year in an appropriate manner designed to increase public understanding and appreciation of the Armed Forces of the United States. I also invite veterans, civic leaders, and organizations to join in the observance of Armed Forces Day.

Finally, I call upon all Americans to display the flag of the United States at their homes on Armed Forces Day, and I urge citizens to learn more about military service by attending and participating in the local observances of the day. I also encourage Americans to volunteer at organizations that provide support to our troops.

Proclamation 8681 of May 20, 2011, is hereby superseded.

IN WITNESS WHEREOF, I have hereunto set my hand this eighteenth day of May, in the year of our Lord two thousand twelve, and of the Independence of the United States of America the two hundred and thirty-sixth.

[FR Doc. 2012-12748

Filed 5-22-12; 2:15 pm]

Billing code 3295-F2-P